DEPARTMENT OF THE INTERIOR

Fish and Wildlife Service

[FWS-R8-R-2017-N124; FXRS282108E8PD0-178-F2013227943]

South Bay Salt Pond Restoration Project, Phase 2, Eden Landing Ecological Reserve; Draft Environmental Impact Statement/Environmental Impact Report

AGENCY: Fish and Wildlife Service, Interior.

ACTION: Notice of availability; request for public comments; announcement of meeting.

SUMMARY: We, the U.S. Fish and Wildlife Service, in coordination with the California Department of Fish and Wildlife and the California State Coastal Conservancy, announce the availability of a Draft Environmental Impact Statement/Environmental Impact Report (DEIS/EIR) for Phase 2 of the South Bay Salt Pond Restoration Project at the Eden Landing Ecological Reserve in Alameda County, California. The DEIS/EIR, which we prepared in accordance with the National Environmental Policy Act of 1969, describes and analyzes the alternatives identified for Phase 2 of the South Bay Salt Pond Restoration Project.

DATES: We will accept comments received or postmarked on or before May 21, 2018. A public meeting will be held on May 8, 2018, from 6 p.m. to 8 p.m. (see ADDRESSES).

Persons needing reasonable accommodations in order to attend and participate in the public meeting should contact Ariel Ambruster, by email at aambrust@ccp.csus.edu or by phone at 510-528-5006, at least 1 week in advance of the meeting to allow time to process the request.

ADDRESSES:

Document Availability: You may obtain copies of the document in the following places:

• Internet: http://www.southbayrestoration.org/planning/phase2/.

• In-Person:

○ San Francisco Bay National Wildlife Refuge Complex Headquarters, 1 Marshlands Road, Fremont, CA 94555.

○ The following libraries:

California State University, East Bay Library, 25800 Carlos Bee Blvd., Hayward, CA 94542.

Fremont Main Library, 2400 Stevenson Blvd., Fremont, CA 94538.

Hayward Public Library, Central Library, 835 C St., Hayward, CA 94541.

Natural Resources Library, U.S. Department of the Interior, 1849 C Street NW, Washington, DC 20240.

Union City Library, 34007 Alvarado-Niles Rd., Union City, CA 94587.

For how to view comments on the draft EIS from the Environmental Protection Agency (EPA), or for information on EPA's role in the EIS process, see EPA's Role in the EIS Process under SUPPLEMENTARY INFORMATION.

Submitting Comments: You may submit written comments by one of the following methods:

• Electronically: Comments may be submitted via email to phase2comments@southbayrestoration.org. Your correspondence should make clear the alternatives or issues to which your comments pertain.

• By Hard Copy: Send written comments to Brenda Buxton, Deputy Program Manager, State Coastal Conservancy, 1515 Clay St., 10th Floor, Oakland, CA 94612.

• By Fax: You may also send written comments by facsimile to 510-286-0470.

To have your name added to our mailing list, contact Ariel Ambruster (see DATES).

Public Meeting: A public meeting will be held on May 8, 2018, from 6 p.m. to 8 p.m., at the San Francisco Bay National Wildlife Refuge Complex Headquarters, Third Floor Auditorium at 1 Marshlands Road, Fremont, California 94555. Staff will be available to take comments and answer questions during this time. The details of the public meeting will be posted on the SBSP Restoration Project's website at (http://www.southbayrestoration.org/events/). Meeting details will also be emailed to the Project's Stakeholder Forum and to those interested parties who request to be notified. Notification requests can be made by contacting Ariel Ambruster, the SBSP Restoration Project's public outreach coordinator (see DATES).

FOR FURTHER INFORMATION CONTACT: Brenda Buxton, Deputy Project Manager, State Coastal Conservancy, (510) 286-1015.

SUPPLEMENTARY INFORMATION: In coordination with the California Department of Fish and Wildlife (CDFW) and the California State Coastal Conservancy, we, the U.S. Fish and Wildlife Service, announce the availability of a Draft Environmental Impact Statement/Environmental Impact Report (DEIS/EIR) for Phase 2 of the South Bay Salt Pond Restoration Project (SBSP) at the Eden Landing Ecological Reserve (Eden Landing) in Alameda County, California. Phase 2 activities would occur within 11 ponds located between Old Alameda Creek and Alameda Creek Flood Control Channel. These ponds are organized by their similarities and location within the Phase 2 project area into three subgroups: the Bay Ponds (E1, E2, E4, and E7), the Inland Ponds (E5, E6, and E6C), and the Southern Ponds (E1C, E2C, E4C, and E5C). The DEIS/EIR, which we prepared in accordance with the National Environmental Policy Act of 1969 (42 U.S.C. 4321 et seq.; NEPA), describes and analyzes the alternatives identified for Eden Landing Phase 2 of the South Bay Salt Pond Restoration Project. In addition to our publication of this Federal Register notice, the Environmental Protection Agency (EPA) is publishing its own Federal Register notice announcing the draft EIS, as required under section 309 of the Clean Air Act (42 U.S.C. 7401 et seq.; CAA) The publication date of EPA's notice of availability is the official start of the public comment period for our draft EIS. Under the CAA, EPA also must subsequently announce the final EIS via the Federal Register.

EPA's Role in the EIS Process

The EPA is charged under section 309 of the CAA to review all Federal agencies' environmental impact statements (EISs) and to comment on the adequacy and the acceptability of the environmental impacts of proposed actions in the EISs.

EPA also serves as the repository (EIS database) for EISs prepared by Federal agencies and provides notice of their availability in the Federal Register. The Environmental Impact Statement Database provides information about EISs prepared by Federal agencies, as well as EPA's comments concerning the EISs. All EISs are filed with EPA, which publishes a notice of availability on Fridays in the Federal Register.

The EPA notice of availability is the start of the public comment period for draft EISs, and the start of the 30-day “wait period” for final EISs, during which agencies are generally required to wait 30 days before making a decision on a proposed action. For more information, see https://www.epa.gov/nepa. You may search for EPA comments on EISs, along with EISs themselves, at https://www.epa.gov/nepa/how-obtain-copy-environmental-impact-statement.

Background

In December 2007, the USFWS and CDFW published a Final EIS/EIR for the South Bay Salt Pond (SBSP) Restoration Project (December 19, 2007; 72 FR 71937). The overall SBSP restoration area includes 15,100 acres, which the USFWS and the CDFW acquired from Cargill, Inc. in 2003. The lands acquired from Cargill are divided into three pond complexes: The Ravenswood Pond complex, in San Mateo County, managed by the USFWS; the Alviso Pond complex, also managed by the USFWS, which is mostly in Santa Clara County, with five ponds in Alameda County; and the Eden Landing Pond complex, in Alameda County, which is owned and managed by the CDFW. The SBSP Restoration Project presented in the Final EIS/EIR was both programmatic, covering a 50-year period, and project-level, addressing the specific components and implementation of Phase 1.

In January 2008, we signed a Record of Decision selecting the Tidal Emphasis Alternative (Alternative C) for implementation. This alternative will result in 90 percent of the USFWS's and CDFW's ponds being restored to tidal wetlands and 10 percent converted to managed ponds. Under Phase 1 of Alternative C, we restored ponds E8A, E8X, E9, E12, and E13 at the Eden Landing complex; A6, A8, A16, and A17 at the Alviso complex; and SF2 at the Ravenswood complex. We also added several trails, interpretive features, a kayak launch, and other recreational access points. Construction was completed on the USFWS ponds in 2013 and on the CDFW ponds in 2016.

We now propose restoration or enhancement of over 2,270 acres of former salt ponds in the second phase of the SBSP Restoration Project at Eden Landing. In the DEIS/EIR, we provide project level analysis of proposed restoration or enhancement of portions of Eden Landing, specifically at the Bay Ponds (E1, E2, E4, and E7), the Inland Ponds (E5, E6, E6C), and the Southern Ponds (E1C, E2C, E4C, and E5C). These ponds are illustrated on the SBSP Restoration Project website at http://www.southbayrestoration.org/planning/phase2/.

Phase 2 of the SBSP Restoration Project is intended to restore and enhance tidal wetlands and managed pond habitats in South San Francisco Bay while simultaneously providing flood risk management and wildlife-oriented public access and recreation. In this Phase 2 document, we would continue habitat restoration activities and public access opportunities in the CDFW pond complex, while maintaining or improving current levels of flood risk management in the surrounding communities.

Alternatives

We consider a range of alternatives and their impacts in the DEIS/EIR, including a No Action Alternative. The range of alternatives include varying approaches to restoring tidal marshes (including number and location of breaches, other levee modifications, and beneficial reuse of dredged material), habitat enhancements (islands, transition zones, and channels), modifications to existing levees and berms to maintain or improve flood risk management, and recreation and public access components (trails, boardwalks, and viewing platforms) which correspond to the project objectives. The alternatives are described below.

Alternative Eden A (No Action)

Under Alternative Eden A (the No Action Alternative), no new activities would be implemented as part of Phase 2. The ponds would continue to be monitored and managed through the activities described in the Adaptive Management Plan (AMP) and in accordance with current CDFW practices. The high priority levees that function as inland flood risk management would continue to be maintained as appropriate and with consultation with the Alameda County Flood Control and Water Conservation District (ACFCWCD).

Alternative Eden B

Alternative Eden B would breach and lower levees to restore the ponds to tidal marsh and thereby improve the ecological function of the ponds. The easternmost levees would be improved to provide flood risk management to the inland communities. The internal levees along the J-ponds and other ACFCWCD-owned channels would also be improved, as needed. The tidal marsh habitats would also be enhanced by placing dredged material to raise pond bottoms, using remnant levees as habitat islands, constructing habitat transition zones, excavating pilot channels to enhance water circulation, and increasing connectivity for anadromous fish habitat. Root wads and logs would be used to prevent erosion on the Bay side of Pond E2. Water control structures would be used during the transition of the Southern Ponds into tidal marsh. Implementation of this alternative would increase wildlife-oriented public access and recreational opportunities in the region. A piped connection from the Alameda County Water District's nearby Aquifer Reclamation Program wells would be added to deliver brackish groundwater and water habitat transition zones in the Inland and Southern Ponds. Finally, a piped connection with the adjacent Union Sanitary District (USD) would be added to deliver treated wastewater from that facility and deliver it onto the habitat transition zone that would be built in the Inland Ponds. This would water the vegetation on that feature and also add a salinity gradient to the marsh that would form there.

Alternative Eden C

Alternative Eden C would retain the Inland and Southern Ponds as managed ponds, and the Bay Ponds would be restored to tidal marsh. A mid-complex levee would be constructed mostly by improving existing internal levees along the Inland Ponds, the J-Ponds, and Pond E1C of the Southern Ponds. Several water control structures would be placed within the Inland and Southern Ponds so that a variety of pond characteristics could be modified as necessary to support a range of pond-dependent wildlife. This alternative would implement many of the same habitat enhancements as Alternative Eden B, but in different locations. For example, the habitat transition zone would be built against the mid-complex levee, and the excavated pilot channels would also be in different places. Similar recreational opportunities would be created under this alternative, but additional trails have been proposed. These include a set of trails along, and a bridge across, the Old Alameda Creek. These trails would end at the Alvarado Salt Works at a new viewing platform. This alternative also proposes to build a bridge to extend the Bay Trail spine over the Alameda Creek Flood Control Channel beyond the Eden Landing Ecological Reserve boundary.

Alternative Eden D

Alternative Eden D would restore the ponds to tidal marsh in a staged approach. Similar to Alternative Eden C, a mid-complex levee would be constructed; however this levee would be temporary. The first stage of this alternative would restore the Bay Ponds to tidal marsh and retain the Inland and Southern Ponds as managed ponds using the temporary mid-complex levee and water control structures. These water control structures would be installed in the Inland and Southern Ponds while they are managed ponds. Once tidal marsh becomes established in the Bay Ponds, the Inland and Southern Ponds would likely be restored to tidal marsh by removing the water control structures and introducing tidal flows to the Inland and Southern Ponds. This end result would be much like Alternative Eden C. However, if ongoing wildlife monitoring conducted under the AMP shows that the pond-associated wildlife species continue to require pond habitat, the Inland Ponds and Southern Ponds could be retained in that managed pond configuration indefinitely. The end result in that case would be much like Alternative Eden C. The proposed recreational features for this alternative are identical to Alternative Eden B, which includes extending the Bay Trail spine through southern Eden Landing on top of improved internal levees and also adding a viewing platform.

National Environmental Policy Review Act Compliance

We are conducting environmental review in accordance with the requirements of NEPA, as amended (42 U.S.C. 4321 et seq.), its implementing regulations (40 CFR parts 1500-1508), other applicable regulations, and our procedures for compliance with those regulations. The DEIS/EIR discusses the direct, indirect, and cumulative impacts of the alternatives on biological resources, cultural resources, water quality, and other environmental resources. Measures to minimize adverse environmental effects are identified and discussed in the DEIS/EIR.

Public Comments

We request that you send comments only by one of the methods described in ADDRESSES. If you submit a comment that includes personal identifying information, you may request at the top of your document that we withhold this information from public review. However, we cannot guarantee that we will be able to do so.

In addition to providing written comments, the public is encouraged to attend a public meeting on (see DATES), to solicit comments on the DEIS/EIR. The location of the public meeting is provided in the ADDRESSES section. We will accept both oral and written comments at the public meeting.

Jody Holzworth,
Acting Regional Director, Pacific Southwest Region.

[FR Doc. 2018-06941 Filed 4-4-18; 8:45 am]

BILLING CODE 4333-15-P